DEPARTMENT OF TRANSPORTATION

Coast Guard

33 CFR Part 165

[COTP San Francisco Bay 02-003]

RIN 2115-AA97

Safety Zone; Carquinez Strait, Vallejo and Crockett, CA

AGENCY: Coast Guard, DOT.

ACTION: Notice of proposed rulemaking.

SUMMARY: The Coast Guard proposes to establish a temporary safety zone in the navigable waters of the Carquinez Strait surrounding the construction site of the new U.S. Interstate 80 bridge (Alfred Zampa Memorial Bridge) over a 30-day period for approximately 6-hours per day. The purpose of this safety zone is to protect persons and vessels from hazards associated with bridge construction activities; specifically, those hazards associated with stringing cables across the Strait. The safety zone will temporarily prohibit usage of the Carquinez Strait waters surrounding the Alfred Zampa Memorial Bridge; specifically, no vessels will be permitted to pass beneath the bridge.

DATES: Comments and related material must reach the Coast Guard on or before May 16, 2002.

ADDRESSES: You may mail comments and related material to the Waterways Management Branch at the U.S. Coast Guard Marine Safety Office San Francisco Bay, Coast Guard Island, Building 14, Alameda, California 94501-5100, or deliver them to room 108 at the same address between 9 a.m. and 4 p.m., Monday through Friday, except Federal holidays. The Waterways Management Branch of Marine Safety Office San Francisco Bay maintains the public docket for this rulemaking. Comments and material received from the public, as well as documents indicated in this preamble as being available in the docket, will become part of this docket and will be available for inspection or copying at U.S. Coast Guard Marine Safety Office San Francisco Bay, Coast Guard Island, Building 14, Room 108, Alameda, California 94501-5100 between 9 a.m. and 4 p.m., Monday through Friday, except Federal holidays.

FOR FURTHER INFORMATION CONTACT: Lieutenant Ross Sargent, Chief, Waterways Management Branch, U.S. Coast Guard Marine Safety Office San Francisco Bay, (510) 437-3073.

SUPPLEMENTARY INFORMATION:

Request for Comments

We encourage you to participate in this rulemaking by submitting comments and related material. If you do so, please include your name and address, identify the docket number for this rulemaking (COTP San Francisco Bay 02-003), indicate the specific section of this document to which each comment applies, and give the reason for each comment. Please submit all comments and related material in an unbound format, no larger than 8½ by 11 inches, suitable for copying. If you would like to know they reached us, please enclose a stamped, self-addressed postcard or envelope. We will consider all comments and material received during the comment period. We may change this proposed rule in view of them.

In our final rule, we will include a concise general statement of the comments received and identify any changes from the proposed rule based on the comments. If as we expect, we make the final rule effective less than 30 days after publication in the Federal Register, we will explain our good cause for doing so as required by 5 U.S.C. 553(d)(3).

Public Meeting

We do not now plan to hold a public meeting. But you may submit a request for a meeting by writing to the Waterways Management Branch at the address under ADDRESSES explaining why one would be beneficial. If we determine that a public meeting would aid this rulemaking, we will hold one at a time and place announced by a later notice in the Federal Register.

Background and Purpose

The State of California Department of Transportation (CALTRANS) has determined that the original bridge spanning Carquinez Strait must be replaced. CALTRANS has begun construction on the new bridge (Alfred Zampa Memorial Bridge) and is nearing a phase that will involve stringing steel cables across the Strait. More specifically, the cable stringing process will involve attaching an approximately 1.5-inch diameter steel cable at the bridge's southern terminus and deploying the cable from a reel-equipped barge as it is towed northward. The cable itself will be partially submerged in the Strait until it is connected to the northern terminus, winched upward and secured approximately 150 feet above the Strait. The deployment phase will take approximately 6 hours for each cable.

In February 2002, CALTRANS advised the Coast Guard Captain of the Port that a series of channel closures would be necessary in order to accomplish the cable stringing. The Coast Guard, along with CALTRANS, the contractor, a joint venture of FCI Constructors, Inc./Cleveland Bridge California, Inc. (FCI/CB), and the San Francisco Bar Pilots, have been planning the logistics for the closures in order to ensure minimal impacts on involved and potentially involved entities.

The purpose of this proposed safety zone is to protect persons and vessels from hazards, injury and damage associated with the bridge construction activities, and cable stringing in particular. One of the dangers during the cable deployment phase is the partially submerged cable that could inflict serious injury or death to mariners, as well as cause major damage to the hull, propeller and rudder of vessels, attempting to pass over it. Similarly, the cable deployment barge, its towing vessel and towing line all pose significant collision dangers to vessels transiting the area. In addition, when the heavy 1.5-inch steel cable is being winched to approximately 150 feet above the Strait, it may part or break loose and fall upon vessels below.

This proposed temporary safety zone in the navigable waters of the Carquinez Strait surrounding the construction site of the Alfred Zampa Memorial Bridge would be in effect during the course of a 30-day period, but would only be enforced for approximately six hours in a given day. The times would be different for each day based on factors that will be explained in detail in the Discussion section. In addition, this safety zone would not be enforced everyday during the 30-day period.

Discussion of Proposed Rule

The Coast Guard proposes to establish a safety zone that would be enforced for approximately 6 hours per day on certain days between June 17, 2002 and July 16, 2002. The proposed safety zone is necessary to protect persons and vessels from hazards, injury and damage associated with the bridge construction activities, and cable stringing in particular.

The proposed safety zone would encompass the navigable waters, from the surface to the bottom, within two lines; one line drawn from the westernmost pier at Crockett Marina [38°03′28″ N, 122°13′42″ W] extending due north to the opposite shore [38°03′56″ N, 122°13′42″ W], and the other line drawn from the western end of the C & H Sugar facility [38°03′28″ N, 122°13′26″ W] extending due north to the opposite shore [38°03′54″ N, 122°13′26″ W]. [Datum: NAD 83].

The proposed dates and approximate enforcement times are based on certain factors that were considered by the U.S. Coast Guard, San Francisco Bar Pilots, and the contractor, FCI/CB. These factors included working with favorable tides and currents; and minimizing closures during darkness, and the Fourth of July holiday. The proposed safety zone would be enforced for approximately 6 hours at a time. On some days the proposed safety zone may be enforced for less than 6 hours. The approximate period of 6 hours is based on the time required to string each of the cables from the bridge's southern terminus to its northern terminus. Although the approximate times that are being proposed here are for a duration of approximately 5.5 hours in length, more precise times will be known during the first few days that the safety zone will be enforced.

CALTRANS has proposed times that provide adequate safety to construction crews and vessels transiting the area, while minimizing the impact on vessels transiting through the Strait. As with other construction projects, there are certain unknown factors, such as weather conditions and possible unforeseen problems that will only be known on a particular day during the cable stringing process. Therefore, the proposed safety zone enforcement periods are approximate times only. During the days of construction, when further information becomes available about the exact times that the proposed safety zone would be enforced, the Captain of the Port would advise the public in several ways. Mariners that would or could be effected by the channel closures, would be advised to monitor for broadcast notice to mariners alerts on VHF-FM marine channel 16 or contact the Captain of the Port representative on scene via VHF-FM marine channel 22. Vessel Movement Reporting System users (VMRS users) would be similarly advised by Coast Guard Vessel Traffic Service San Francisco via VHF-FM marine channel 14. The proposed safety zone dates and approximate enforcement times are as follows:

Date | Safety zone in effect | Safety zone expires
June 17, 2002 | 7:30 a.m. | 1 p.m.
June 18, 2002 | 9 a.m. | 2:30 p.m.
June 19, 2002 | 10 a.m. | 3:30 p.m.
June 20, 2002 | 11:30 a.m. | 5 p.m.
June 21, 2002 | 1 p.m. | 6:30 p.m.
June 22, 2002 | 8 a.m. | 1:30 p.m.
June 23, 2002 | 9 a.m. | 2:30 p.m.
June 24, 2002 | 9:30 a.m. | 3 p.m.
June 25, 2002 | 10 a.m. | 3:30 p.m.
June 26, 2002 | 10:30 a.m. | 4 p.m.
June 27, 2002 | 4 a.m. | 9:30 a.m.
June 28, 2002 | 4:30 a.m. | 10 a.m.
June 29, 2002 | 5:30 a.m. | 11 a.m.
June 30, 2002 | 6:30 a.m. | 12 (noon)
July 1, 2002 | 7:30 a.m. | 1 p.m.
July 2, 2002 | 8:30 a.m. | 2 p.m.
July 3, 2002 | 5 a.m. | 10:30 a.m.
July 4, 2002 | No safety zone enforced
July 5, 2002 | No safety zone enforced
July 6, 2002 | No safety zone enforced
July 7, 2002 | No safety zone enforced
July 8, 2002 | 8:30 a.m. | 2 p.m.
July 9, 2002 | 9:30 a.m. | 3 p.m.
July 10, 2002 | 10 a.m. | 3:30 p.m.
July 11, 2002 | 10:30 a.m. | 4 p.m.
July 12, 2002 | 4 a.m. | 9:30 a.m.
July 13, 2002 | 5 a.m. | 10:30 a.m.
July 14, 2002 | 5:30 a.m. | 11 a.m.
July 15, 2002 | 7 a.m. | 12:30 p.m.
July 16, 2002 | 7:30 a.m. | 12:30 p.m.

Regulatory Evaluation

This proposed rule is not a “significant regulatory action” under section 3(f) of Executive Order 12866, Regulatory Planning and Review, and does not require an assessment of potential costs and benefits under section 6(a)(3) of that Order. The Office of Management and Budget has not reviewed it under that Order. It is not “significant” under the regulatory policies and procedures of the Department of Transportation (DOT)(44 FR 11040, February 26, l979).

We expect the economic impact of this proposed rule to be so minimal that a full Regulatory Evaluation under paragraph 10e of the regulatory policies and procedures of DOT is unnecessary.

The effect of this regulation would not be significant for several reasons. The San Francisco Bar Pilots, responsible for guiding all deep draft commercial vessels in the area of the safety zone, have been working closely with CALTRANS, the contractor, and the U.S. Coast Guard in order to ensure minimal impact to deep draft commercial vessel traffic. The safety zone would be enforced for approximately 6 hours per day, taking into account tides, currents, daylight and vessel traffic patterns. In addition, we have attempted to minimize impacts on the regional commercial and sport fishing industries. Finally, advance notifications of the channel closures would be made to the local maritime community by broadcast notice to mariner alerts over marine band radio, on-scene Captain of the Port representatives and Coast Guard Vessel Traffic Service radio communications.

Small Entities

Under the Regulatory Flexibility Act (5 U.S.C. 601-612), we have considered whether this proposed rule would have a significant economic impact on a substantial number of small entities. The term “small entities” comprises small businesses, not-for-profit organizations that are independently owned and operated and are not dominant in their fields, and governmental jurisdictions with populations of less than 50,000.

The Coast Guard certifies under 5 U.S.C. 605(b) that this proposed rule would not have a significant economic impact on a substantial number of small entities. This proposed rule would affect the following entities, some of which might be small entities: the owners or operators of commercial shrimp or charter fishing vessels intending to transit through the Alfred Zampa Memorial Bridge construction area during safety zone enforcement periods (temporary channel closures). Additionally, since recreational sport fishing vessels would not be able to transit the channel during temporary channel closures, and thus possibly divert to fish at other places and times, local bait and tackle businesses may be impacted.

This safety zone would not have a significant economic impact on a substantial number of small entities for the following reasons. Although the safety zone would apply to the entire width of the Strait, the rule would normally be enforced for six hours usually early in the day, during the height of the day's first tidal cycle. Such predictability would enable fishing vessels to schedule transits through the safety zone area before or after the 6-hour safety zone enforcement periods. Before and during the enforcement periods, Captain of the Port representatives in patrol vessels would assume their stations to the east and west of the safety zone to provide notice and enforcement of the zone. The Coast Guard would also issue broadcast notice to mariners alerts via VHF-FM marine channel 16 before the safety zone is enforced.

If you think that your business, organization, or governmental jurisdiction qualifies as a small entity and that this rule would have a significant economic impact on it, please submit a comment (see ADDRESSES) explaining why you think it qualifies and how and to what degree this rule would economically affect it.

Assistance for Small Entities

Under section 213(a) of the Small Business Regulatory Enforcement Fairness Act of 1996 (Public Law 104-121), we want to assist small entities in understanding this proposed rule so that they can better evaluate its effects on them and participate in the rulemaking. If the rule would affect your small business, organization, or governmental jurisdiction and you have questions concerning its provisions or options for compliance, please contact Lieutenant Ross Sargent, U.S. Coast Guard Marine Safety Office San Francisco Bay at (510) 437-3073.

Collection of Information

This proposed rule would call for no new collection of information under the Paperwork Reduction Act of 1995 (44 U.S.C. 3501-3520.).

Federalism

A rule has implications for federalism under Executive Order 13132, Federalism, if it has a substantial direct effect on State or local governments and would either preempt State law or impose a substantial direct cost of compliance on them. We have analyzed this proposed rule under that Order and have determined that it does not have implications for federalism.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 or more in any one year. Though this proposed rule would not result in such an expenditure, we do discuss the effects of this rule elsewhere in this preamble.

Taking of Private Property

This proposed rule would not effect a taking of private property or otherwise have taking implications under Executive Order 12630, Governmental Actions and Interference with Constitutionally Protected Property Rights.

Civil Justice Reform

This proposed rule meets applicable standards in sections 3(a) and 3(b)(2) of Executive Order 12988, Civil Justice Reform, to minimize litigation, eliminate ambiguity, and reduce burden.

Protection of Children

We have analyzed this proposed rule under Executive Order 13045, Protection of Children from Environmental Health Risks and Safety Risks. This rule is not an economically significant rule and would not create an environmental risk to health or risk to safety that might disproportionately affect children.

Indian Tribal Governments

This proposed rule does not have tribal implications under Executive Order 13175, Consultation and Coordination with Indian Tribal Governments, because it would not have a substantial direct effect on one or more Indian tribes, on the relationship between the Federal Government and Indian tribes, or on the distribution of power and responsibilities between the Federal Government and Indian tribes.

To help the Coast Guard establish regular and meaningful consultation and collaboration with Indian and Alaskan Native tribes, we published a notice in the Federal Register (66 FR 36361, July 11, 2001) requesting comments on how to best carry out the Order. We invite your comments on how this proposed rule might impact tribal governments, even if that impact may not constitute a “tribal implication” under the Order.

Energy Effects

We have analyzed this proposed rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. It has not been designated by the Administrator of the Office of Information and Regulatory Affairs as a significant energy action. Therefore, it does not require a Statement of Energy Effects under Executive Order 13211.

Environment

We have considered the environmental impact of this proposed rule and concluded that, under figure 2-1, paragraph (34)(g), of Commandant Instruction M16475.lD, this rule is categorically excluded from further environmental documentation. A “Categorical Exclusion Determination” is available in the docket where indicated under ADDRESSES.

List of Subjects in 33 CFR Part 165

Harbors, Marine safety, Navigation (water), Reporting and recordkeeping requirements, Security measures, Waterways.

For the reasons discussed in the preamble, the Coast Guard proposes to amend 33 CFR part 165 as follows:

PART 165—REGULATED NAVIGATION AREAS AND LIMITED ACCESS AREAS

1. The authority citation for part 165 continues to read as follows:

Authority: 33 U.S.C. 1231; 50 U.S.C. 191, 33 CFR 1.05-1(g), 6.04-1, 6.04-6, 160.5; 49 CFR 1.46.

2. Add new § 165.T11-078 to read as follows:

§ 165.T11-078 Safety Zone: Carquinez Strait, Vallejo and Crockett, CA.

(a) Location. The safety zone encompasses the navigable waters, from the surface to the bottom, within two lines; one line drawn from the westernmost pier at Crockett Marina [38°03′28″ N, 122°13′42″ W] extending due north to the opposite shore [38°03′56″ N, 122°13′42″ W], and the other line drawn from the western end of the C & H Sugar facility [38°03′28″ N, 122°13′26″ W] extending due north to the opposite shore [38°03′54″ N, 122°13′26″ W]. [Datum: NAD 83].

(b) Effective period. This safety zone is effective from 7:30 a.m., June 17, 2002 to 12:30 p.m., July 16, 2002.

(c) Enforcement periods. The Coast Guard will notify the maritime public of the precise times for enforcement of the safety zone via broadcast notice to mariners, Vessel Traffic Service radio communications, and Captain of the Port representatives on scene. If the safety zone is no longer needed prior to the scheduled termination times, the Captain of the Port will cease enforcement of this safety zone and will announce that fact via broadcast notice to mariners. The safety zone dates and times are as follows:

Date | Safety zone in effect | Safety zone expires
June 17, 2002 | 7:30 a.m | 1 p.m.
June 18, 2002 | 9 a.m | 2:30 p.m.
June 19, 2002 | 10 a.m | 3:30 p.m.
June 20, 2002 | 11:30 a.m | 5 p.m.
June 21, 2002 | 1 p.m | 6:30 p.m.
June 22, 2002 | 8 a.m | 1:30 p.m.
June 23, 2002 | 9 a.m | 2:30 p.m.
June 24, 2002 | 9:30 a.m | 3 p.m.
June 25, 2002 | 10 a.m | 3:30 p.m.
June 26, 2002 | 10:30 a.m | 4 p.m.
June 27, 2002 | 4 a.m | 9:30 a.m.
June 28, 2002 | 4:30 a.m | 10 a.m.
June 29, 2002 | 5:30 a.m | 11 a.m.
June 30, 2002 | 6:30 a.m | 12 (noon)
July 1, 2002 | 7:30 a.m | 1 p.m.
July 2, 2002 | 8:30 a.m | 2 p.m.
July 3, 2002 | 5 a.m | 10:30 a.m.
July 4, 2002 | No safety zone enforced.
July 5, 2002 | No safety zone enforced.
July 6, 2002 | No safety zone enforced.
July 7, 2002 | No safety zone enforced.
July 8, 2002 | 8:30 a.m | 2 p.m.
July 9, 2002 | 9:30 a.m | 3 p.m.
July 10, 2002 | 10 a.m | 3:30 p.m.
July 11, 2002 | 10:30 a.m | 4 p.m.
July 12, 2002 | 4 a.m | 9:30 a.m.
July 13, 2002 | 5 a.m | 10:30 a.m.
July 14, 2002 | 5:30 a.m | 11 a.m.
July 15, 2002 | 7 a.m | 12:30 p.m.
July 16, 2002 | 7:30 a.m | 12:30 p.m.

(d) Regulations. In accordance with the general regulations in § 165.23 of this part, no person or vessel may enter, transit through, or anchor within this safety zone unless authorized by the Captain of the Port, or his designated representative.

Dated: April 5, 2002.
L.L. Hereth,
Captain, Coast Guard, Captain of the Port, San Francisco Bay.

[FR Doc. 02-9131 Filed 4-15-02; 8:45 am]

BILLING CODE 4910-15-P